SECURITIES AND EXCHANGE COMMISSION

[Release No. 34-80926; File No. SR-CBOE-2017-019]

Self-Regulatory Organizations; Chicago Board Options Exchange, Incorporated; Notice of Withdrawal of Proposed Rule Change Related to Complex Orders

June 14, 2017.

On March 7, 2017, the Chicago Board Options Exchange, Incorporated (the “Exchange” or “CBOE”) filed with the Securities and Exchange Commission (the “Commission”), pursuant to Section 19(b)(1) of the Securities Exchange Act of 1934 (the “Act”),¹ and Rule 19b-4 thereunder,² a proposed rule change to amend its rules with respect to orders in open outcry to set forth applicable ratios for an order to be eligible for complex order priority within applicable priority rules, make explicit the priority applicable when there are other complex orders or quotes represented at the same net price, and clarify the applicable minimum increment. The Exchange also proposed to simplify the definitions of the complex order types that may be made available on a class-by-class basis. The proposed rule change was published for comment in the Federal Register on March 24, 2017.³ On May 5, 2017, the Commission issued a notice designating a longer period of time to act on the proposed rule change.⁴ The Commission has not received any comments on the proposed rule change. On June 6, 2017, CBOE withdrew the proposed rule change (SR-CBOE-2017-019).

¹ 15 U.S.C. 78s(b)(1).

² 17 CFR 240.19b-4.

³ See Securities Exchange Act Release No. 80279 (March 20, 2017), 82 FR 15085 (“Notice”).

⁴ See Securities Exchange Act Release No. 80609, 82 FR 22035.

⁵ 17 CFR 200.30-3(a)(31).

For the Commission, by the Division of Trading and Markets, pursuant to delegated authority.⁵
Eduardo A. Aleman,
Assistant Secretary.

[FR Doc. 2017-12767 Filed 6-19-17; 8:45 am]

BILLING CODE 8011-01-P